DEPARTMENT OF LABOR

Employment and Training Administration

[TA-W-38,654]

U.S. Forest Industries, Inc, South Fork Operation, South Fork, Colorado; Notice of Termination of Investigation

Pursuant to section 221 of the Trade Act of 1974, an investigation was initiated on February 5, 2001 in response to a petition filed on behalf of workers at U.S. Forest Industries, Inc., South Fork Operation, South Fork, Colorado.

This case is being terminated because there is currently a prior petition investigation in process (TA-W-38,440) which covers the workers of the subject company. Consequently, further investigation in this case would serve no purpose, and the investigation has been terminated.

Signed at Washington, DC, this 6th cay of April 2001.
Linda G. Poole,
Certifying Officer, Division of Trade Adjustment Assistance.

[FR Doc. 01-9713 Filed 4-18-01; 8:45 am]

BILLING CODE 4510-30-M